LEGAL SERVICES CORPORATION

45 CFR Chapter XVI

LSC Regulations Review

AGENCY: Legal Services Corporation.

ACTION: Request for public comment.

SUMMARY: As part of its ongoing efforts to improve the administration of regulatory programs and requirements, Legal Services Corporation is soliciting public comment on its regulations toward the development of a regulatory agenda for 2001 and beyond.

DATES: Written comments must be received on or before January 8, 2001.

ADDRESSES: Written comments may be submitted by mail, fax or email to Mattie C. Condray at the addresses listed below.

FOR FURTHER INFORMATION CONTACT: Mattie C. Condray, Senior Assistant General Counsel, Office of Legal Affairs, Legal Services Corporation, 750 First Street, NE, Washington, DC 20002-4250; 202/336-8817 (phone); 202/336-8952 (fax); mcondray@lsc.gov.

SUPPLEMENTARY INFORMATION: The Legal Services Corporation's mission is to promote equal access to the system of justice and improve opportunities for low-income people throughout the United States by making grants for the provision of high-quality civil legal assistance to those who would be otherwise unable to afford legal counsel. As part of its ongoing efforts to better serve this mission, the LSC Board of Directors adopted a five-year strategic plan, “LSC Strategic Directions 2000—2005” in January of 2000. One element of this plan involves reviewing “the competitive grantmaking process, the performance standards applicable to LSC grantees, and LSC's statutory and regulatory compliance requirements for efficiency, unnecessary duplication and implications for the delivery of high quality, appropriate legal services.” LSC Strategic Directions 2000—2005, page 8.

Pursuant to this directive, LSC, through its Board of Directors' Operations and Regulations Committee, which provides overall direction on LSC regulatory policy and establishes priorities for LSC rulemaking activities, is in the process of conducting a thorough review of LSC's regulations. With this notice, LSC is soliciting public input for the consideration of the Committee and the Board in pursuit of this task.¹

¹ This task is not related to the work of the newly chartered Commission which is examining the impacts of certain legal restrictions on persons eligible for LSC-funded legal assistance. That effort, being undertaken pursuant to Board of Directors Resolution 2000-009, is focused on the effects of certain legal restrictions on LSC recipients' ability to provide equal access to justice to low income persons. The regulations review is, instead, focused on comprehensive review of LSC's regulations to support the development of a regulatory agenda for 2001.

Victor M. Fortuno,
General Counsel and Vice President for Legal Affairs.

[FR Doc. 00-29871 Filed 11-22-00; 8:45 am]

BILLING CODE 7050-01-P